DEPARTMENT OF ENERGY

Federal Energy Regulatory Commission

[Docket No. RP08-591-000]

Equitrans, L.P.; Notice of Technical Conference

January 23, 2009.

Take notice that the Commission Staff will convene a technical conference in the above-referenced proceedings on Wednesday, January 28, 2009, at 10 a.m. (EST), in a room to be designated at the offices of the Federal Energy Regulatory Commission, 888 First Street, NE., Washington, DC 20426.

On August 29, 2008, Equitrans, L.P. (Equitrans) filed tariff sheets to establish a new Tennessee Capacity Surcharge Tracker to recover reservation charges incurred by Equitrans under a Gas Transportation Agreement with Tennessee Gas Pipeline Company (Tennessee) and establish rules and procedures for Equitrans's shippers to utilize the Tennessee capacity. On September 30, 2008, the Commission accepted and suspended Equitrans's proposed tariff sheets, to become effective October 1, 2008, subject to refund and conditions, and further review.¹ Following the Commission's September 30th Order, Commission Staff issued two data requests to which Equitrans responded. On January 6, 2009, after its second response, Equitrans filed a motion for a technical conference to clarify and resolve issues raised by Commission Staff in the data requests before Commission Staff makes a recommendation to the Commission. During the technical conference, Commission Staff and interested persons will have the opportunity to discuss all of the issues raised by Equitrans's filing.

¹ Equitrans, L.P., 124 FERC ¶ 61,310 (2008) (September 30th Order).

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons are permitted to attend. For further information please contact Anna Fernandez at (202) 502-6682 or e-mail Anna.Fernandez@ferc.gov.

Kimberly D. Bose,
Secretary.

[FR Doc. E9-1888 Filed 1-28-09; 8:45 am]

BILLING CODE 6717-01-P